Title 3—

The President

Proclamation 7335 of August 27, 2000

To Modify Duty-Free Treatment Under the Generalized

System of Preferences

By the President of the United States of America

A Proclamation

1. Pursuant to sections 501 and 502 of the Trade Act of 1974, as amended (the “1974 Act”) (19 U.S.C. 2461 and 2462), the President is authorized to designate countries as beneficiary developing countries for purposes of the Generalized System of Preferences (GSP).

2. Pursuant to sections 501 and 502 of the 1974 Act, and having due regard for the eligibility criteria set forth therein, I have determined that it is appropriate to designate Nigeria as a beneficiary developing country for purposes of the GSP.

3. Section 604 of the 1974 Act (19 U.S.C. 2483) authorizes the President to embody in the Harmonized Tariff Schedule of the United States (HTS) the substance of the relevant provisions of that Act, and of other acts affecting import treatment, and actions thereunder, including the removal, modification, continuance, or imposition of any rate of duty or other import restriction.

NOW, THEREFORE, I, WILLIAM J. CLINTON, President of the United States of America, acting under the authority vested in me by the Constitution and the laws of the United States of America, including but not limited to title V and section 604 of the 1974 Act, do proclaim that:

(1) In order to reflect in the HTS the addition of Nigeria as a beneficiary country under the GSP, general note 4(a) to the HTS is modified by adding “Nigeria” to the list of independent countries, effective with respect to articles entered, or withdrawn from warehouse for consumption, on or after the date of signature of this proclamation.

(2) Any provisions of previous proclamations and Executive Orders that are inconsistent with the actions taken in this proclamation are superseded to the extent of such inconsistency.

IN WITNESS WHEREOF, I have hereunto set my hand this twenty-seventh day of August, in the year of our Lord two thousand, and of the Independence of the United States of America the two hundred and twenty-fifth.

wj

[FR Doc. 00-22466

Filed 8-29-00; 12:04 pm]

Billing code 3195-01-P